DEPARTMENT OF THE INTERIOR

Fish and Wildlife Service

50 CFR Part 16

RIN 1018-AI87

Review of Information Concerning Silver Carp (Hypophthalmichthys molitrix)

AGENCY: Fish and Wildlife Service, Interior.

ACTION: Proposed rule; notice of inquiry.

SUMMARY: The U.S. Fish and Wildlife Service is reviewing available economic and biological information on silver carp (Hypophthalmichthys molitrix) for possible addition of that species to the list of injurious wildlife under the Lacey Act. The importation and introduction of silver carp into the natural ecosystems of the United States may pose a threat to agriculture, horticulture, forestry, the health and welfare of human beings, and the welfare and survival of wildlife and wildlife resources in the United States. Listing silver carp as injurious would prohibit their importation into, or transportation between, the continental United States, the District of Columbia, Hawaii, the Commonwealth of Puerto Rico, or any territory or possession of the United States, with limited exceptions. This document seeks comments from the public to aid in determining if a proposed rule is warranted.

DATES: Comments must be submitted on or before September 22, 2003.

ADDRESSES: Comments may be mailed or sent by fax to the Chief, Division of Environmental Quality, U.S. Fish and Wildlife Service, 4401 North Fairfax Drive, Suite 322, Arlington, VA 22203; fax (703) 358-1800. You may also send comments by electronic mail (e-mail) to: SilverCarp@fws.gov. See the Public Comments Solicited section below for file format and other information about electronic filing.

FOR FURTHER INFORMATION CONTACT: Kari Duncan, Division of Environmental Quality, Branch of Invasive Species at (703) 358-2464 or kari_duncan@fws.gov.

SUPPLEMENTARY INFORMATION: On October 16, 2002, the U.S. Fish and Wildlife Service received a petition requesting that bighead carp, black carp, and silver carp be considered for inclusion in the injurious wildlife regulations pursuant to the Lacey Act. The petitioners expressed concern that silver carp could invade the Great Lakes from the Mississippi River basin, where they are established, through a manmade ship and sanitary canal. The petitioners, 25 members of Congress representing the Great Lakes region, are concerned that silver carp, because they are voracious eaters, may impact food supplies available to native fisheries in the Great Lakes, which are already struggling against other invasive species. The petitioners also noted that the Great Lakes fisheries are valued at approximately $4 billion, and resource managers have spent decades trying to restore and protect them.

Silver carp are native to several major Pacific drainages in eastern Asia from the Amur River of far eastern Russia, south through much of the eastern half of China to the Pearl River, possibly including northern Vietnam. Silver carp are filter feeders capable of eating large amounts of phytoplankton. They also feed on zooplankton, bacteria, and detritus (loose material produced directly from disintegration processes). They prefer standing or slow-flowing water of impoundments or river backwaters ranging in temperature from 43 to 82 °F. They can grow to maximum lengths of about 40 inches and weigh up to 110 pounds. They reach sexual maturity at about 18 inches and can live up to 20 years.

Silver carp were imported into the United States in 1973 and stocked for phytoplankton control in eutrophic (nutrient rich) water bodies and as a food fish (Fuller, et al, 1999). By the mid-1970s, silver carp were being raised at six Federal, State, and private facilities, and had been stocked in several municipal sewage lagoons by the late 1970s. Silver carp have been recorded in 12 States.

The Lacey Act (18 U.S.C. 42) and its implementing regulations in 50 CFR part 16 restrict the importation into or the transportation between the continental United States, the District of Columbia, Hawaii, the Commonwealth of Puerto Rico, or any territory or possession of the United States of any species of wildlife, or eggs thereof, determined to be injurious or potentially injurious to certain interests, including those of agriculture, horticulture, forestry, the health and welfare of human beings, and the welfare and survival of wildlife and wildlife resources in the United States. However, injurious wildlife may be imported by permit for zoological, educational, medical, or scientific purposes in accordance with permit regulations at 50 CFR 16.22, or by Federal agencies without a permit solely for their own use. If the process initiated by this notice results in the addition of silver carp to the list of injurious wildlife contained in 50 CFR part 16, their importation into the United States would be prohibited except under the conditions, and for the purposes, described above.

This notice solicits economic, biological, or other information concerning silver carp. The information will be used to determine if the species is a threat, or potential threat, to those interests of the United States delineated above, and thus warrants addition to the list of injurious wildlife in 50 CFR 16.13.

Public Comments Solicited

Please send comments to Chief, Division of Environmental Quality, U.S. Fish and Wildlife Service, 4401 North Fairfax Drive, Suite 322, Arlington, VA 22030. Comments may be hand-delivered to the above address or faxed to (703) 358-1800. If you submit comments by e-mail, please submit comments as an ASCII file format and avoid the use of special characters and encryption. Please include “Attn: [RIN 1018-AI87]” and your name and return address in your e-mail message. Please note that this email address will be closed at the termination of this public comment period.

Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Authority: This notice is issued under the authority of the Lacey Act (18 U.S.C. 42).

Dated: June 27, 2003.
Craig Manson,
Assistant Secretary for Fish, Wildlife and Parks.

[FR Doc. 03-18654 Filed 7-22-03; 8:45 am]

BILLING CODE 4310-55-P